FEDERAL COMMUNICATIONS COMMISSION

47 CFR Part 2

[ET Docket No. 21-232, EA Docket No. 21-233; FR ID 136323]

Protecting Against National Security Threats to the Communications Supply Chain Through the Equipment Authorization Program; Correction

AGENCY: Federal Communications Commission.

ACTION: Correcting amendments.

SUMMARY: On February 6, 2023, the Federal Communications Commission revised Commission rules. That document inadvertently failed to update the requirements for changes in name, address, ownership, or control of grantee in the case of a transaction affecting the grantee. This document corrects the final regulations.

DATES: Effective April 21, 2023.

FOR FURTHER INFORMATION CONTACT: Jamie Coleman, Office of Engineering and Technology, (202) 418-2705 or Jamie.Coleman@FCC.gov. For additional information concerning the Paperwork Reduction Act information collection requirements contained in this document, contact Nicole Ongele, (202) 418-2991 or send an email to PRA@fcc.gov.

SUPPLEMENTARY INFORMATION: This is a summary of the Commission's document, in ET Docket No. 21-232 and EA Docket No. 21-233, released on March 20, 2023. This document corrects an unintentionally omitted rule subparagraph in the final rules appendix of FCC 22-84, which was published in the Federal Register on February 6, 2023 (88 FR 7592).

List of Subjects in 47 CFR Part 2

Communications equipment, Radio, Telecommunications.

Accordingly, 47 CFR part 2 is corrected by making the following correcting amendments:

PART 2—FREQUENCY ALLOCATIONS AND RADIO TREATY MATTERS; GENERAL RULES AND REGULATIONS

1. The authority citation for part 2 continues to read as follows:

Authority: 47 U.S.C. 154, 302a, 303, and 336 unless otherwise noted.

2. Amend § 2.929 by revising paragraph (d) to read as follows:

§ 2.929 Changes in name, address, ownership or control of grantee.

* * * * *

(d) In the case of transactions affecting the grantee, such as a transfer of control or sale to another company, mergers, or transfer of manufacturing rights, notice must be given to the Commission via the internet at https://apps.fcc.gov/eas within 60 days after the consummation of the transaction.

(1) The notice described in the introductory text to this paragraph (d) must include:

(i) A written and signed certification that, as of the date of the filing of the notice, the equipment to which the change applies is not prohibited from receiving an equipment authorization pursuant to § 2.903;

(ii) An affirmative or negative statement as to whether the applicant is identified on the Covered List, established pursuant to § 1.50002 of this chapter, as an entity producing covered communications equipment; and

(iii) The written and signed certifications required under § 2.911(d)(7).

(2) Depending on the circumstances in each case, the Commission may require new applications for certification. In reaching a decision, the Commission will consider whether the acquiring party can adequately ensure and accept responsibility for continued compliance with the regulations. In general, new applications for each device will not be required. A single application for certification may be filed covering all the affected equipment.

Federal Communications Commission.
Ronald Repasi,
Acting Chief, Office of Engineering and Technology.

[FR Doc. 2023-08309 Filed 4-20-23; 8:45 am]

BILLING CODE 6712-01-P